DEPARTMENT OF COMMERCE

National Oceanic and Atmospheric Administration

[I.D. 022103A]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings on management issues regarding Gulf fisheries.

DATES: The meetings will be held on March 11-14, 2003. For specific dates and times see SUPPLEMENTARY INFORMATION.

ADDRESSES: These meetings will be held at the Adam's Mark Hotel, 64 South Water Street, Mobile, AL 36602; telephone: 251-438-4000.

Council address: Gulf of Mexico Fishery Management Council, 3018 U.S. Highway 301 North, Suite 1000, Tampa, FL 33619.

FOR FURTHER INFORMATION CONTACT: Wayne E. Swingle, Executive Director, Gulf of Mexico Fishery Management Council; telephone: 813-228-2815.

SUPPLEMENTARY INFORMATION:

Meeting Dates and Agendas

The Council will meet to discuss the following items:

March 11:

8:30-10 a.m.—(Closed Session) Convene the Advisory Panel (AP) Selection Committee to appoint members of the APs. The committee will make recommendations for full Council review in closed session on Thursday afternoon and be presented to the public on Friday morning.

10-11:30 a.m.—(Closed Session) Convene the Scientific and Statistical Committee (SSC) Selection Committee to appoint members of the SSCs, stock assessment panels, and socioeconomic panel. The committee will make recommendations for full Council review in closed session on Thursday afternoon and be presented to the public on Friday morning.

1-2 p.m.—Convene the Data Collection Committee to hear a presentation of a proposed Florida State University economic study.

2-3:30 p.m.—Convene the Administrative Policy Committee to discuss revisions to guidelines for National Standard 1.

3:30-5:30 p.m.—Convene the Reef Fish Management Committee to discuss the Reef Fish Amendment 21 Public Hearing Document and hear a presentation by NMFS Enforcement on grouper fishery violations.

March 12:

8:30-10 a.m.—Convene the Mackerel Management Committee to review a draft regulatory amendment/environmental assessment which addresses maximum sustainable yield (MSY), optimum yield (OY), minimum stock size threshold (MSST), and maximum fishing mortality threshold (MFMT) for the coastal migratory pelagic species, and a scoping document for draft Amendment 15 to include size and bag limit alternatives for cobia, and commercial landings for blue runner.

10-11:30 a.m.—Convene the Shrimp Management

Committee to discuss the Shrimp Amendment 13 Options Paper addressing MSY, OY, MSST, and MFMT for shrimp stocks; vessel monitoring systems; and bycatch reduction.

1-2 p.m.—Convene a joint meeting of the Reef Fish, Mackerel, and Red Drum Management Committees to discuss the proposed scoping document and meetings on an aquaculture generic amendment.

2-5 p.m. -Convene the Habitat Protection Committee to review and comment on the alternatives for specifying essential fish habitat (EFH), habitat areas of particular concern, and impacts of fishing on EFH in the Draft Environmental Impact Statement for the EFH Generic Amendment.

March 13:

8:30 a.m.—Convene.

8:45-9:30 a.m.—Hear a presentation by the Gulf States Marine Fisheries Commission on accessing the Fisheries Information Network.

9:30-9:45 a.m.—Hear a request for fishing vessel designation from the Worldwide Water Foundation.

9:45-12 noon—Receive public testimony on the Draft Coastal Pelagics (CMP) Regulatory Amendment. The draft CMP Regulatory Amendment sets standards for MSY, OY, overfished and overfishing for king and Spanish mackerel, and cobia. Final action to approve the regulatory amendment will be taken at a subsequent meeting.

1:30-2 p.m.—Receive the Habitat Protection Committee report.

2-2:30 p.m.—Receive the Shrimp Management Committee report.

2:30-2:45 p.m.—Receive the Mackerel Management Committee report.

2:45-3 p.m.—Receive the Reef Fish Management Committee report.

3-3:30 p.m.—Receive the Administrative Policy Committee report.

3:30-4:15 p.m.—(Closed Session) Receive the report of the AP Selection Committee.

4:15-5:30 p.m.—(Closed Session) Receive the report of the SSC Selection Committee.

March 14:

8:30-8:45 a.m.—Receive the Data Collection Committee Report.

8:45-9 a.m.—Receive the Joint Reef Fish/Mackerel/Red Drum Management Committee report.

9-9:15 a.m.—Receive a report from the Logo Selection Committee.

9:15-9:30 a.m.—Receive the AP Selection Committee Report.

9:30-9:45 a.m.—Receive the SSC Selection Committee Report.

9:45-10 a.m.—Receive a report of the NMFS Billfish AP.

10-10:15 a.m.—Receive a report of the NMFS Highly Migratory Species AP.

10:15-10:30 p.m.—Receive the South Atlantic Fishery Management Council liaison report.

10:30-10:45 a.m.—Receive a report of the Summit for Gulf of Mexico Shrimp Industry.

10:45-11 a.m.—Receive a report of the Gulf Safety Committee.

11-11:15 a.m.—Receive Enforcement Reports.

11:15-11:30 a.m.—Receive the NMFS Regional Administrator's Report.

11:30-11:45 a.m.—Receive Director's Reports.

11:45-12 noon—Other Business

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305(c) of the MSFCMA, provided the public has been notified of the Council's intent to take final action to address the emergency. A copy of the Committee schedule and agenda can be obtained by calling 813-228-2815.

Special Accommodations

These meetings are physically accessible to people with disabilities. Requests for sign language interpretation or other auxiliary aids should be directed to Anne Alford at the Council (see ADDRESSES) by March 4, 2003.

Dated: February 21, 2003.
Theophilus R. Brainerd,
Acting Director, Office of Sustainable Fisheries, National Marine Fisheries Service.

[FR Doc. 03-4564 Filed 2-26-03; 8:45 am]

BILLING CODE 3510-22-S